DEPARTMENT OF JUSTICE

Notice of Lodging of Proposed Modification to Consent Decree Under the Clean Water Act

On October 21, 2020, the Department of Justice lodged a proposed modification to the consent decree with the United States District Court for the Northern District of Georgia in the lawsuit entitled United States and State of Georgia v. DeKalb County, Georgia, Civil Action No. No. 1:10-cv-04039-SDG.

The United States and the State of Georgia filed this lawsuit in 2010 under the Clean Water Act. The complaint sought injunctive relief and civil penalties for violations in connection with the City's sanitary sewer system. The consent decree entered by the Court on December 13, 2011 provides for DeKalb County to perform injunctive measures as described in the consent decree, to pay a civil penalty split between United States and the State of Georgia, and to perform a supplemental environmental project. The proposed modification to the consent decree, among other things: (1) Extends the time period for DeKalb County to rehabilitate priority sewer areas, (2) requires additional injunctive relief, and (3) requires DeKalb County to pay a $1,047,000 civil penalty, which will be divided evenly between the United States and the State.

The publication of this notice opens a period for public comment on the modification to the consent decree. Comments should be addressed to the Assistant Attorney General, Environment and Natural Resources Division, and should refer to United States and State of Georgia v. DeKalb County, Georgia, D.J. Ref. No. 90-5-1-1-09497. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, D.C. 20044-7611.

During the public comment period, the modification to the consent decree may be examined and downloaded at this Justice Department website: https://www.justice.gov/enrd/consent-decrees. We will provide a paper copy of the modification to the consent decree upon written request and payment of reproduction costs. Please mail your request and payment to: Consent Decree Library, U.S. DOJ—ENRD, P.O. Box 7611, Washington, DC 20044-7611.

Please enclose a check or money order for $22 (25 cents per page reproduction cost) payable to the United States Treasury.

Lori Jonas,
Assistant Section Chief,Environmental Enforcement Section,Environment and Natural Resources Division.

[FR Doc. 2020-23694 Filed 10-26-20; 8:45 am]

BILLING CODE 4410-15-P